NATIONAL SCIENCE FOUNDATION

Committee Management; Renewal

The NSF management official having responsibility for the U.S. National Assessment Synthesis Team (#5219) has determined that renewing through October 31, 2000, is necessary and in the public interest in connection with the performance of duties imposed upon the Director, National Science Foundation (NSF), by 42 USC 1861 et seq. This determination follows consultation with the Committee Management Secretariat, General Services Administration.

Authority for this Committee will expire on October 31, 2000. For more information, please contact Karen York, NSF, at (703) 292-4387.

Dated: September 28, 2000.
Karen J. York,
Committee Management Officer.

[FR Doc. 00-25400 Filed 10-3-00; 8:45 am]

BILLING CODE 7555-01-M